DEPARTMENT OF COMMERCE

Patent and Trademark Office

Submission for OMB Review; Comment Request; Post Allowance and Refiling

The United States Patent and Trademark Office (USPTO) will submit to the Office of Management and Budget (OMB) for clearance the following proposal for a collection of information under the provisions of the Paperwork Reduction Act of 1995.

Agency: United States Patent and Trademark Office, Department of Commerce.

Title: Post Allowance and Refiling.

OMB Control Number: 0651-0033.

Form Numbers: (AIA= American Invents Act, SB = Specimen Book).

• PTO/AIA/05: (Reissue Application Declaration by the Inventor)

• PTO/AIA/06: (Reissue Application Declaration by the Assignee)

• PTO/AIA/07: (Substitute Statement in Lieu of an Oath or Declaration for Reissue Patent Application (35 U.S.C. 115(d) and 37 CFR 1.64))

• PTO/SB/44: (Certificate of Correction)

• PTO/AIA/50: (Reissue Patent Application Transmittal)

• PTO/SB/50: (Reissue Patent Application Transmittal)

• PTO/SB/51: (Reissue Application Declaration by the Inventor)

• PTO/SB/52: (Reissue Application Declaration by the Assignee)

• PTO/SB/51S: (Supplemental Declaration for Reissue Patent Application to Correct “Errors” Statement)

• PTO/AIA/53: (Reissue Application: Consent of Assignee; Statement of Non-Assignment)

• PTO/SB/53: (Reissue Application: Consent of Assignee; Statement of Non-Assignment)

• PTO/SB/56: (Reissue Application Fee Transmittal Form)

• PTOL-85B: (Issue Fee Transmittal)

• PTO/SB/141: (Petition to Correct Assignee After Payment of Issue Fee)

Type of Request: Revision of a currently approved information collection.

Number of Respondents: 388,249 respondents and 392,149 responses per year. The USPTO estimates that approximately 25% of these respondents will be small entities.

Average Hours per Response: The USPTO estimates that it will take the public from 30 minutes (0.50 hours) to 5.3 hours to gather the necessary information, prepare the appropriate form or document, and submit the information to the USPTO.

Burden Hours: 331,434 hours.

Hourly Cost Burden: $145,168,092.

Annual (non-hour) Cost: $306,268,779.

Needs and Uses: The public uses this information collection to request corrections of errors in issued patents, to submit applications for reissue patents, and to submit issue fee payments. The information in this information collection can be submitted using the USPTO's electronic filing system (EFS-Web) for patent applications and related documents. The information collected, maintained, and used in this information collection is based on OMB and USPTO guidelines. This includes the basic information quality standards established in the Paperwork Reduction Act of 1995, in OMB Circular A-130, and in the USPTO OMB quality guidelines.

Affected Public: Individuals or households; businesses or other for profits; and not-for-profit institutions.

Frequency: On occasion.

Respondent's Obligation: Required to obtain or retain benefits.

OMB Desk Officer: Nicholas A. Fraser, email: Nicholas_A._Fraser@omb.eop.gov. Once submitted, the request will be publicly available in electronic format through reginfo.gov. Follow the instructions to view Department of Commerce information collections currently under review by OMB.

Further information can be obtained by:

• Email: InformationCollection@uspto.gov. Include “0651-0033 information request” in the subject line of the message.

• Mail: Kimberly Hardy, Office of the Chief Administrative Officer, United States Patent and Trademark Office, P.O. Box 1450, Alexandria, VA 22313-1450.

Written comments and recommendations for the proposed information collection should be sent on or before March 2, 2020 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, Office of Administrative Services, Strategic and Data Transport Division, United States Patent and Trademark Office.

[FR Doc. 2020-01851 Filed 1-30-20; 8:45 am]

BILLING CODE 3510-16-P